DEPARTMENT OF TRANSPORTATION

Federal Aviation Administration

14 CFR Part 71

[Docket No. FAA-2005-21703; Airspace Docket No. 05-ACE-19]

Modification of Class D and Class E Airspace; Topeka, Forbes Field, KS

AGENCY: Federal Aviation Administration (FAA), DOT.

ACTION: Direct final rule; request for comments; correction.

SUMMARY: This action corrects an error in the legal description of Class D airspace in a direct final rule, request for comments that was published in the Federal Register on Tuesday, July 12, 2005 (70 FR 39914).

DATES: This direct final rule is effective on 0901 UTC, October 27, 2005.

FOR FURTHER INFORMATION CONTACT: Brenda Mumper, Air Traffic Division, Airspace Branch, ACE-520A, DOT Regional Headquarters Building, Federal Aviation Administration, 901 Locust, Kansas City, MO 64106; telephone: (816) 329-2524.

SUPPLEMENTARY INFORMATION:

History

Federal Register Document 2005-21703 published on Tuesday, July 12, 2005 (70 FR 39914), modified Class D and Class E Airspace at Topeka, Forbes Field, KS. The phrase “This Class D airspace area is effective during the specific dates and times established in advance by a Notice to Airmen. The effective date and time will thereafter be continuously published in the Airport/Facility Directory.” was incorrectly deleted from the legal description of Class D airspace. This action corrects that error.

Accordingly, pursuant to the authority delegated to me, the error in the legal description of Class D Airspace, Topeka, Forbes Field, KS as published in the Federal Register Tuesday July 12, 2005 (70 FR 39914), (FR Doc. 2005-21703), is corrected as follows:

PART 71—[CORRECTED]

§ 71.1 [Corrected]

On page 39915, Column 2, at the end of the legal description of ACE KS D Topeka, Forbes Field, KS, add the phrase “This Class D airspace area is effective during the specific dates and times established in advance by a Notice to Airmen. The effective date and time will thereafter be continuously published in the Airport/Facility Directory.”

Issued in Kansas City, MO, on August 18, 2005.
Elizabeth S. Wallis,
Acting Area Director, Western Flight Services Operations.

[FR Doc. 05-20046 Filed 10-5-05; 8:45am]

BILLING CODE 4910-13-M